DEPARTMENT OF AGRICULTURE

Commodity Credit Corporation

Rural Business-Cooperative Service

Announcement of Future Competitive Grant Funds Availability for Higher Blends Infrastructure Incentive Program (HBIIP) for Fiscal Year 2020

AGENCY: Commodity Credit Corporation and the Rural Business Cooperative Service, USDA.

ACTION: Notice.

SUMMARY: The Commodity Credit Corporation (CCC) and the Rural Business-Cooperative Service (RBCS), a Rural Development agency of the United States Department of Agriculture (USDA), intend to announce in a Notice of Funding Availability (NOFA) the availability of up to $100 million in competitive grants to eligible entities for activities designed to expand the sales and use of renewable fuels under the Higher Blends Infrastructure Incentive Program (HBIIP). The purpose of this notice is to alert prospective participants and stakeholders of the Agencies' intentions to jointly publish a NOFA by mid-spring which will provide specific program information and requirements.

FOR FURTHER INFORMATION CONTACT: Anthony Crooks: telephone (202)205-9322, email: EnergyPrograms@usda.gov. Persons with disabilities that require alternative means for communication should contact the U.S. Department of Agriculture (USDA) Target Center at (202)720-2600 (voice).

SUPPLEMENTARY INFORMATION:

Purpose of the HBIIP

The overall goal of HBIIP is to increase the sales and use of higher blends of ethanol and biodiesel. HBIIP is intended to encourage a more comprehensive approach to marketing higher blend levels by sharing the costs related to and/or offering sales incentives for the installation of fuel pumps, related equipment, and infrastructure.

Under the HBIIP, funds will be made directly available to assist transportation fueling and biodiesel distribution facilities with converting to higher ethanol and biodiesel blend friendly status by sharing the costs related to and/or offering sales incentives for the installation of fuel pumps, related equipment, and infrastructure. Cost-share grants and/or incentives will be made available for higher fuel ethanol/biodiesel blends such as “E15” and “B20” (or higher), at vehicle fueling locations, including, but not limited to, local fueling stations, convenience stores (CS), hypermarket fueling stations (HFS), and/or fleet facilities.

The Commodity Credit Corporation (CCC) is an agency and instrumentality of the United States within the Department of Agriculture and operates under the supervision of the Secretary of Agriculture. Among the activities that section 5 of the CCC Charter Act authorizes CCC to undertake are actions to:

• Make available materials and facilities required in connection with the production and marketing of agricultural commodities (other than tobacco) and

• Increase the domestic consumption of agricultural commodities (other than tobacco) by expanding or aiding in the expansion of domestic markets or by developing or aiding in the development of new and additional markets, marketing facilities, and uses for such commodities.

Under this authority, CCC will make available up to $100 million in the form of grants and/or sales incentives to eligible entities to assist with the implementation of activities to expand the infrastructure for renewable fuels derived from agricultural products produced in the United States. HBIIP will be administered under the general supervision of RBCS.

Applicants may enter into arrangements with private entities such as, but not limited to, commercial vendors of fuels, agricultural commodity promotional organizations, Tribes, and other entities interested in the renewable fuels in order to secure such non-Federal funds or in-kind contributions.

Funds made available under HBIIP may only be used for infrastructure to support higher biofuel blend sales and use.

Eligibility

Transportation fueling and biodiesel distribution facilities may apply for this program. Eligible entities would include: Retail fueling stations, convenience stores, hypermarket fueling stations, fleet facilities, and similar entities with equivalent capital investments. Consideration will also be given to biodiesel terminal operations and home heating oil distribution centers or equivalent entities.

The following information provides a general overview of the requirements for eligible applications. Application requirements and other important information will be provided in the forthcoming NOFA and on the HBIIP web page https://www.rd.usda.gov/HBIIP.

Cost-Sharing or Matching

Applicants will certify and demonstrate that any required matching funds are available during the grant period and provide appropriate documentation with the application.

There are a number of existing or prior and ongoing State-led programs and private sector efforts to help provide funding for higher blend infrastructure. These programs may be included as part of any matching contribution requirement. However, the application must show how the HBIIP grant will add to the infrastructure that fosters biofuel sales and use. HBIIP funds are intended to provide additional incentives.

Eligible funds must be:

• Spent on eligible expenses during the grant period.

• From eligible sources.

• Spent in advance or as a pro-rata portion of grant funds being spent.

• Provided either by the applicant or a third party in the form of cash or an eligible in-kind contribution.

Eligible funds cannot include:

• Employee's and/or member's time.

• Other Federal grant funds unless provided by authorizing legislation.

• Cash or in-kind contributions donated outside the grant period.

• Over-valued in-kind contributions.

Multiple Application Eligibility

Only one application may be submitted per applicant. However, an application may include proposed investments for more than one location.

Grant Period

An application must include no more than a one-year grant period, or it will not be considered for funding.

Application Evaluation Criteria

USDA will evaluate how the applications will increase the sale and use of fuel using the evaluation criteria specified in the NOFA and Grants.gov to select the applications that best support the HBIIP goals. Information required in a proposal will be detailed in the forthcoming NOFA.

Process for Evaluation of Applications and Award of Grants

Each application will be reviewed to determine whether the applicant is eligible and whether the application is complete and sufficiently responsive to the requirements specified in the NOFA.

Priority Scoring Criteria

Applications will be evaluated using the Priority Scoring Criteria listed in the NOFA. Evaluators will base scores only on the information provided or cross-referenced by page number in each individual evaluation criterion.

Federal Funding Accountability and Transparency Act

Applicants must be registered in the System for Award Management (SAM) prior to submitting an application; which can be obtained at no cost via a toll-free request line at (866) 705-5711 or online at https://www.sam.gov/SAM/. Registration of a new entity in SAM requires an original, signed, and notarized letter stating that the applicant is the authorized Entity Administrator, before the registration will be activated. All recipients of Federal financial grant assistance are required to report information about first-tier sub-awards and executive total compensation in accordance with 2 CFR part 170.

All applicants except those that are individuals, in accordance with 2 CFR part 25, must have a DUNS number, which can be obtained at no cost via a toll-free request line at (866) 705-5711 or online at http://fedgov.dnb.com/webform.

To use Grants.gov, you must already have a DUNS number and you must also be registered and maintain registration in SAM. We strongly recommend that you do not wait until the application deadline date to begin the application process through Grants.gov.

Grants.gov. Applications must include electronic signatures. Original signatures may be required if funds are awarded. After electronically applying through Grants.gov, you will receive an automatic acknowledgement from Grants.gov that contains a Grants.gov tracking number.

Robert Stephenson,
Executive Vice President, Commodity Credit Corporation.
Bette B. Brand,
Administrator, Rural Business-Cooperative Service.

[FR Doc. 2020-03831 Filed 2-27-20; 8:45 am]

BILLING CODE 3410-05-P